OFFICE OF SCIENCE AND TECHNOLOGY POLICY

National Nanotechnology Initiative Meetings

ACTION: Notice of public webinars.

SUMMARY: The National Nanotechnology Coordination Office (NNCO), on behalf of the Nanoscale Science, Engineering, and Technology (NSET) Subcommittee of the Committee on Technology, National Science and Technology Council (NSTC), will hold one or more webinars to share information with the general public and the nanotechnology research and development community. Topics covered may include technical subjects; environmental, health, and safety issues; business case studies; or other areas of potential interest to the nanotechnology community.

DATES: The NNCO will hold one or more webinars between the publication of this Notice and December 31, 2017. The first webinar will be held on or after January 18, 2017.

ADDRESSES: For information about upcoming webinars, please visit http://www.nano.gov/PublicWebinars. Many webinars will be broadcast via AdobeConnect, which requires the installation of a free plug-in on a computer or of a free app on a mobile device.

Submitting Questions: Some webinars may include question-and-answer segments in which questions of interest may be submitted through the webinar interface. During the question-and-answer segments of the webinars, submitted questions will be considered in the order received and may be posted on the NNI Web site (http://www.nano.gov). A moderator will identify relevant questions and pose them to the speaker(s). Due to time constraints, not all questions may be addressed during the webinars. The moderator reserves the right to group similar questions and to skip questions, as appropriate. The Public Webinar page on nano.gov (http://www.nano.gov/PublicWebinars) will indicate which webinars will include question-and-answer segments.

Registration: Registration for the webinars will open approximately two weeks prior to each event and will be capped at 500 participants or as space limitations dictate. Individuals planning to attend a webinar can find registration information at http://www.nano.gov/PublicWebinars. Written notices of participation by email should be sent to sstandridge@nnco.nano.gov or mailed to Stacey Standridge, 4201 Wilson Blvd., Stafford II, Suite 405, Arlington, VA 22230.

FOR FURTHER INFORMATION CONTACT: For information regarding this Notice, please contact Stacey Standridge at National Nanotechnology Coordination Office, by telephone (703-292-8103) or email (sstandridge@nnco.nano.gov).

Meeting Accomodations: Individuals requiring special accommodation to access any of these public events should contact Stacey Standridge (telephone 703-292-8103) at least ten business days prior to the meeting so that appropriate arrangements can be made.

Ted Wackler,
Deputy Chief of Staff and Assistant Director.

[FR Doc. 2017-00790 Filed 1-13-17; 8:45 am]

BILLING CODE 3270-F7-P